SECURITIES AND EXCHANGE COMMISSION

[Release No. IC-26065]

Notice of Applications for Deregistration Under Section 8(f) of the Investment Company Act of 1940

May 30, 2003.

The following is a notice of applications for deregistration under section 8(f) of the Investment Company Act of 1940 for the month of May, 2003. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on June 24, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0506.

Merrill Lynch Emerging Markets Debt Fund, Inc. [File No. 811-7794]

Summary: Applicant seeks an order declaring that it has ceased to be an investment company. On February 24, 2003, applicant transferred its assets to Merrill Lynch World Income Fund, Inc., based on net asset value. Expenses of $240,457 incurred in connection with the reorganization were paid by the acquiring fund.

Filing Dates: The application was filed on May 6, 2003, and amended on May 21, 2003.

Applicant's Address: 800 Scudders Mill Rd., Plainsboro, NJ 08536.

Hyperion 2002 Term Trust, Inc. [File No. 811-7070]

Summary: Applicant, a closed-end investment company, seeks an order declaring that it has ceased to be an investment company. On December 2, 2002, applicant made a liquidating distribution to its shareholders, based on net asset value. Expenses of $747,500 incurred in connection with the liquidation were paid by applicant. American Stock Transfer & Trust Company is holding assets for unlocated shareholders. Any unclaimed assets will eventually escheat to the various states.

Filing Date: The application was filed on May 8, 2003.

Applicant's Address: One Liberty Plaza, 165 Broadway, 36th Floor, New York, NY 10006-1404.

Bergstrom Capital Corporation [File No. 811-1641]

Summary: Applicant, a closed-end investment company, seeks an order declaring that it has ceased to be an investment company. On April 11, 2003, applicant made a liquidating distribution to its shareholders, based on net asset value. Expenses of approximately $125,618 incurred in connection with the liquidation were paid by applicant. Applicant has retained cash in the amount of approximately $383,805, which is being held in a deposit account at its custodian, to cover outstanding accrued liabilities. Applicants expect any assets remaining after payment of all outstanding obligations will be distributed to shareholders of record on June 6, 2003.

Filing Dates: The application was filed on April 8, 2003, and amended on May 7, 2003.

Applicant's Address: 221 First Ave. West, Suite 320, Seattle, WA 98119-4224.

CTB Securities Trust Fund [File No. 811-10091]

Summary: Applicant, a closed-end investment company, seeks an order declaring that it has ceased to be an investment company. Applicant has never made a public offering of its securities and does not propose to make a public offering. Applicant will continue to operate as an unregistered real estate investment trust in reliance on sections 3(c)(1), 3(c)(5), and/ or 3(c)(7) of the Act.

Filing Dates: The application was filed on March 14, 2003, and amended on May 8, 2003.

Applicant's Address: 22939 Hawthorne Boulevard, Torrance, CA 90505.

Kenilworth Fund, Inc. [File No. 811-7620]

Summary: Applicant seeks an order declaring that it has ceased to be an investment company. On December 30, 2002, applicant transferred its assets to AHA Diversified Equity Fund, based on net asset value. Expenses of $30,253 incurred in connection with the reorganization were paid by applicant and Institutional Portfolio Services, Ltd., applicant's investment adviser.

Filing Dates: The application was filed on February 28, 2003, and amended on May 9, 2003.

Applicant's Address: 21 S. Clark St., Suite 2594, Chicago, IL 60603.

Montgomery Partners Absolute Return Fund LLC [File No. 811-10595]

Summary: Applicant, a closed-end investment company, seeks an order declaring that it has ceased to be an investment company. Applicant has never made a public offering of its securities and has fewer than one hundred investors. Applicant will operate in reliance on section 3(c)(1) of the Act until its illiquid assets can be liquidated.

Filing Dates: The application was filed on March 28, 2003, and amended on April 29, 2003.

Applicant's Address: 101 California St., 34th Floor, San Francisco, CA 94111.

Merrill Lynch KECALP L.P. 1986 [File No. 811-4387]

Summary: Applicant seeks an order declaring that it has ceased to be an investment company. On December 22, 1999, applicant made a liquidating distribution to its shareholders based on net asset value. Expenses of $64,091 incurred in connection with the liquidation were paid by applicant.

Filing Dates: The application was filed on December 22, 2000, and amended on May 2, 2003.

Applicant's Address: 4 World Financial Center, 23rd Floor, New York, New York 10080.

For the Commission, by the Division of Investment Management, pursuant to delegated authority.
Margaret H. McFarland,
Deputy Secretary.

[FR Doc. 03-14169 Filed 6-4-03; 8:45 am]

BILLING CODE 8010-01-P